DEPARTMENT OF HOMELAND SECURITY

Federal Emergency Management Agency

44 CFR Part 65

[Docket No. FEMA-D-7539]

Changes in Flood Elevation Determinations

AGENCY: Federal Emergency Management Agency (FEMA), Emergency Preparedness and Response Directorate, Department of Homeland Security.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified base flood elevations for each community are available for inspection at the office of the Chief Executive Officer of each community. The respective addresses are listed in the following table.

FOR FURTHER INFORMATION CONTACT: Mary Jean Pajak, P.E., FEMA, 500 C Street SW., Washington, DC 20472, (202) 646-2831.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, floodplains, reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Houston | City of Dothan | Mar. 14, 2003, Mar. 21, 2003, The Dothan Eagle | The Honorable Chester L. Sowell III, Mayor of the City of Dothan, P.O. Box 2128, Dothan, Alabama 36302 | June 20, 2003 | 010104 E
Colbert | City of Muscle Shoals | Apr. 7, 2003, Apr. 14, 2003, Times Daily | The Honorable David H. Bradford, Mayor of the City of Muscle Shoals, P.O. Box 2624, Muscle Shoals, Alabama 35662 | Mar. 28, 2003 | 010047 C
Connecticut:
Fairfield | Town of Greenwich | Apr. 9, 2003, Apr. 16, 2003, Greenwich Time | Mr. Richard Bergstresser, Town of Greenwich First Selectman, Town Hall, 101 Field Point Road, Greenwich, Connecticut 06830 | Apr. 1, 2003 | 090008 C
New Haven | City of West Haven | Apr. 4, 2003, Apr. 11, 2003, New Haven Register | The Honorable H. Richard Borer, Jr., Mayor of the City of West Haven, West Haven City Hall, 355 Main Street, West Haven, Connecticut 06516 | July 11, 2003 | 090092 C
Delaware: New Castle | Unincorporated areas | Mar. 3, 2003, Mar. 10, 2003, The News Journal | Mr. Thomas P. Gordon, New Castle County Executive, New Castle County Government Center, 87 Reads Way, New Castle, Delaware 19720 | Feb. 21, 2003 | 105085 G
Florida:
Volusia | City of Daytona Beach | Mar. 28, 2003, Apr. 4, 2003, Daytona Beach News-Journal | The Honorable Baron Asher, Mayor of the City of Daytona Beach, P.O. Box 2451, Daytona Beach, Florida 32115 | Mar. 20, 2003 | 125099 G
Duval | City of Jacksonville | Apr. 16, 2003, Apr. 23, 2003, The Florida Times-Union | The Honorable John A. Delaney, Mayor of the City of Jacksonville, 117 West Duval Street, Suite 400, Jacksonville, Florida 32202 | Apr. 4, 2003 | 120077 F
Duval | City of Jacksonville | Mar. 3, 2003, Mar. 10, 2003, The Florida Times-Union | The Honorable John A. Delaney, Mayor of the City of Jacksonville, City Hall, 117 West Duval Street, Suite 400, Jacksonville, Florida 32202 | June 9, 2003 | 120077 E
Duval | City of Jacksonville | Mar. 5, 2003, Mar. 12, 2003, The Florida Times-Union | The Honorable John A. Delaney, Mayor of the City of Jacksonville, City Hall, 117 West Duval Street, Suite 400, Jacksonville, Florida 32202 | Feb. 25, 2003 | 120077 E
Manatee | Unincorporated Areas | Feb. 28, 2003, Mar. 7, 2003, Bradenton Herald | Mr. Ernie Padgett, Manatee County Administrator, 1112 Manatee Avenue West, P.O. Box 1000, Bradenton, Florida 34206 | Feb. 20, 2003 | 120153 C
Polk | City of Lakeland | Apr. 18, 2003, Apr. 25, 2003, The Ledger | The Honorable Ralph Fletcher, Mayor of the City of Lakeland, Lakeland City Hall, 228 South Massachusetts Avenue, Lakeland, Florida 33801-5086 | Apr. 10, 2003 | 120267 F
Orange | Unincorporated areas | Mar. 5, 2003, Mar. 12, 2003, Orlando Sentinel | M. Krishnamurthy, Ph.D., P.E., Orange County Stormwater Management Manager, 4200 South John Young Parkway, Orlando, Florida 32839 | Feb. 25, 2003 | 120179 E
Broward | City of Parkland | Apr. 10, 2003, Apr. 17, 2003, The Sun-Sentinel | The Honorable Sal Pagliara, Mayor of the City of Parkland, 6600 University Boulevard, Parkland, Florida 33067 | July 17, 2003 | 120051 F
Pinellas | Unincorporated areas | Feb. 27, 2003, Mar. 6, 2003, St. Petersburg Times | Mr. Stephen Spratt, Pinellas County Administrator, 315 Court Street, Clearwater, Florida 33756 | Feb. 19, 2003 | 125139 E
Polk | Unincorporated areas | Apr. 10, 2003, Apr. 17, 2003, The Ledger | Mr. Jim W. Keene, Polk County Manager, 330 West Church Street, P.O. Box 9005, Drawer CA01, Bartow, Florida 33831-9005 | July 17, 2003 | 120261 F
Georgia:
Gwinnett | Unincorporated areas | Mar. 6, 2003, Mar. 13, 2003, Gwinnett Daily Post | Mr. F. Wayne Hill, Chairman of the Gwinnett County Board of Commissioners, Justice and Administration Center, 75 Langley Drive, Lawrenceville, Georgia 30045 | Feb. 21, 2003 | 130322 E
Jackson | Unincorporated areas | Apr. 23, 2003, Apr. 30, 2003, The Jackson Herald | Mr. Al Grace, Jackson County Manager, 67 Athens Street, Jefferson, Georgia 30549 | Apr. 10, 2003 | 130345 A
Jackson | City of Jefferson | Apr. 23, 2003, Apr. 30, 2003, The Jackson Herald | The Honorable Jim Joiner, Mayor of the City of Jefferson, 147 Athens Street, Jefferson, Georgia 30549 | Apr. 10, 2003 | 130112 B
Indiana:
Allen | Unincorporated areas | Feb. 28, 2003, Mar. 7, 2003, The Journal Gazette | Ms. Marla Irving, President of the Allen County Board of Commissioners, 1 East Main Street, Room 200, Fort Wayne, Indiana 46802 | Mar. 22, 2003 | 180302 D
Hamilton | City of Carmel | Apr. 21, 2003, Apr. 28, 2003, The Indianapolis Star | The Honorable James Brainard, Mayor of the City of Carmel, One Civic Square, Carmel, Indiana 46032 | July 28, 2003 | 180081 F
Allen | City of New Haven | Feb. 25, 2003, Mar. 4, 2003, Fort Wayne Journal Gazette | The Honorable Terry E. McDonald, Mayor of the City of New Haven, P.O. Box 570, City Administration Building, New Haven, Indiana 46774 | February 19, 2003 | 180004 D
Kentucky: Jefferson | City of Jeffersontown | Mar. 26, 2003, Apr. 2, 2003, The Courier-Journal | The Honorable Clay S. Foreman, Mayor of the City of Jeffersontown, 10416 Waterson Trail, Jeffersontown, Kentucky 40299 | July 2, 2003 | 210121 D
Maine:
Hancock | Town of Bar Harbor | Apr. 17, 2003, Apr. 24, 2003, Bar Harbor News | Ms. Dana Reed, Bar Harbor Town Manager, 93 Cottage Street, Bar Harbor, Maine 04609 | Apr. 4, 2003 | 230064 E
Lincoln | Town of South Bristol | Mar. 13, 2003, Mar. 5, 2003, Lincoln County Weekly | Mr. Donald G. Stanley, Jr., Town of South Bristol Selectman, South Bristol Town Hall, 470 Clarks Cove Road, Walpole, Maine 04753-3315 | Mar. 5, 2003 | 230220 B
Cumberland | Town of Standish | Mar. 5, 2003, Mar. 12, 2003, Portland Press Herald | Mr. Gordon Billington, Manager of the Town of Standish, Standish Town Office, 175 Northeast Road, Standish, Maine 04084 | Feb. 25, 2003 | 230207 D
Massachusetts: Plymouth | Town of Plymouth | Apr. 9, 2003, Apr. 16, 2003, Old Colony Memorial | Ms. Eleanor Beth, Plymouth Town Manager, Plymouth Town Hall, 11 Lincoln Street, Plymouth, Massachusetts 02360 | Apr. 1, 2003 | 250278 C
Michigan: Kent | Township of Plainfield | Apr. 18, 2003, Apr. 25, 2003, The Grand Rapids Press | Mr. David Groenleer, Township of Plainfield Supervisor, 616 Belmont Avenue, NE., Belmont, Michigan 49306 | Apr. 8, 2003 | 260109 B
Mississippi:
DeSoto | City of Olive Branch | Mar. 26, 2003, Apr. 2, 2003, The DeSoto County Tribune | The Honorable Samuel P. Rickard, Mayor of the City of Olive Branch, City Hall, 9189 East Pigeon Roost Avenue, Olive Branch, Mississippi 38654 | Mar. 19, 2003 | 280286 E
Pearl River | Unincorporated areas | Apr. 10, 2003, Apr. 17, 2003, The Poplarville Democrat | Mr. Charles Ray Perry, President of the Pearl River County Board of Supervisors, 200 Courthouse, P.O. Box 569, Poplarville, Mississippi 39470 | Apr. 2, 2003 | 280129 D
New Hampshire: Strafford | City of Somersworth | Mar. 5, 2003, Foster's Daily Democrat | The Honorable James M. McLin, Mayor of the City of Somersworth, Somersworth City Hall, 1 Government Way, Somersworth, New Hampshire 03878 | Apr. 4, 2003 | 330151 B
North Carolina:
Dare | Unincorporated areas | Mar. 4, 2003, Mar. 11, 2003, The Coastland Times | Mr. Warren Judge, Chairman, Dare County Board of Commissioners, P.O. Box 1000, Manteo, North Carolina 27954 | Feb. 21, 2003 | 375348 E
Durham | City of Durham | Apr. 4, 2003, Apr. 11, 2003, The Herald-Sun | The Honorable William V. Bell, Mayor of the City of Durham, 101 City Hall Plaza, Durham, North Carolina 27701 | July 11, 2003 | 370086 G
Durham | City of Durham | Feb. 27, 2003, Mar. 6, 2003, The Herald-Sun | The Honorable William V. Bell, Mayor of the City of Durham, 101 City Hall Plaza, Durham, North Carolina 27701 | Mar. 21, 2003 | 370086 G
Durham | Unincorporated areas | Apr. 4, 2003, Apr. 11, 2003, The Herald-Sun | Mr. Michael M. Ruffin, Durham County Manager, 200 East Main Street, 2nd Floor, Durham, North Carolina 27701 | July 11, 2003 | 370085 G
Pennsylvania:
Montgomery | Borough of Hatboro | Mar. 31, 2003, Apr. 7, 2003, The Intelligencer | Mr. Joseph F. Pantano, Borough of Hatboro Manager, 414 South York Road, Hatboro, Pennsylvania 19040 | July 7, 2003 | 420697 D
Huntingdon | Borough of Huntingdon | Mar. 17, 2003, The Daily News | Mr. Daniel L. Varner, Borough of Huntingdon Manager, P.O. Box 592, 530 Washington Street, Huntingdon, Pennsylvania 16652-0592 | Mar. 7, 2003 | 420486 C
Huntingdon | Township of Smithfield | Mar. 17, 2003, The Daily News | Mr. Wayne W. Mateer, Chairman of the Township of Smithfield, Board of Supervisors, Mount Vernon Avenue and 13th Street, Huntingdon, Pennsylvania 16652-0592 | Mar. 7, 2003 | 420494 C
York | Township of York. | Mar. 14, 2003, Mar. 21, 2003, The York Daily Record, The York Dispatch | Mr. Philip W. Briddell, President of the Township of York, Board of Commissioners, 25 Oak Street, York, Pennsylvania 17402-4931 | Feb. 26, 2003 | 421032 B
Puerto Rico | Commonwealth | Apr. 25, 2003, May 2, 2003, The San Juan Star | The Honorable Sila Maria Calderon, Governor of the Commonwealth of Puerto Rico, Office of the Governor, P.O. Box 9020082, San Juan, Puerto Rico 00902-0082 | Aug. 1, 2003 | 720000 E
South Carolina: Berkeley | City of Goose Creek | Mar. 28, 2003, Apr. 4, 2003, Post & Courier | The Honorable Michael J. Heitzler, Mayor of the City of Goose Creek, P.O. Drawer 1768, Goose Creek, South Carolina 29445 | July 4, 2003 | 450206 C
Tennessee: Lawrence | Unincorporated Areas | Mar. 25, 2003, Apr. 1, 2003, The Democrat-Union | Ms. Ametra Bailey, Lawrence County Executive, 240 West Gaines Street, NBU-1, Lawrenceburg, Tennessee 38464 | July 1, 2003 | 470354 B
Virginia:
Independent City | City of Colonial Heights | Apr. 4, 2003, Apr. 11, 2003, Progress Index | Mr. Robert Lee Taylor, City of Colonial Heights Manager, P.O. Box 3401, Colonial Heights, Virginia 23834 | Mar. 25, 2003 | 510039 C
Independent City | City of Petersburg | Apr. 4, 2003, Apr. 11, 2003, Progress Index | Mr. B. David Canada, City of Petersburg Manager, 135 North Union Street, Petersburg, Virginia 23803 | Mar. 25, 2003 | 510112 B

(Catalog of Federal Domestic Assistance No. 83.100, “Flood Insurance”)
Dated: May 21, 2003.
Anthony S. Lowe,
Mitigation Division Director, Emergency Preparedness and Response Directorate.

[FR Doc. 03-13642 Filed 5-30-03; 8:45 am]

BILLING CODE 6718-04-P